ENVIRONMENTAL PROTECTION AGENCY

40 CFR Part 261

[FRL-7429-4]

RIN 2003-AA00

Regulatory Innovations: Pilot-Specific Rule for Electronic Materials in the EPA Region III Mid-Atlantic States; Hazardous Waste Management System; Modification of the Hazardous Waste Program; Cathode Ray Tubes

AGENCY: Environmental Protection Agency.

ACTION: Proposed rule.

SUMMARY: Many used cathode ray tubes (CRTs) are currently classified as characteristic hazardous wastes under RCRA. Such CRTs are therefore subject to the hazardous waste regulations of RCRA Subtitle C unless they come from a household or a conditionally exempt small quantity generator. Today EPA is proposing to conditionally exclude from its hazardous waste program under the Resource Conservation and Recovery Act (RCRA) used CRTs and glass removed from CRTs from the definition of “solid waste” in the EPA Region III Mid-Atlantic States (which include the States of Delaware, Maryland, and West Virginia, the Commonwealths of Pennsylvania and Virginia, and the District of Columbia). Additionally, the preamble to this rule clarifies when used CRTs and other used electronic equipment become a “solid waste.” This rule will support an ongoing e-Cycling pilot project of EPA Region III's Mid-Atlantic States, which is promoting reuse and recycling of electronics. EPA believes that today's proposed rule will encourage increased recycling and better management of these materials in Region III states.

EPA has proposed a similar, albeit broader, conditional exclusion for CRTs and certain other electronic materials that would be effective nationwide (June 12, 2002, FR 40508-40528). EPA is proposing this regional rule now because it believes that implementing the rule in the Region III states will produce information about the CRT conditional exclusion that will be useful to EPA as it assesses the appropriateness of adopting the RCRA exclusion nationally. EPA expects to withdraw the regional rule if and when a final national rule becomes effective.

In the “Rules and Regulations” section of today's Federal Register, EPA is promulgating as a direct final rule the same amendment to RCRA's definition of solid waste that it is proposing here. EPA views this as a noncontroversial revision and anticipates no adverse comment. EPA has explained its reasons for this amendment in the preamble of the direct final rule. If we receive no adverse comment to the direct final rule, we will not take further action on this proposed rule. If we receive adverse comment on the direct final rule, we will withdraw the direct final rule and it will not take effect. We will address all public comments in a subsequent final rule based on this proposed rule. We will not institute a second comment period on this action. Any parties interested in commenting must do so at this time.

DATES: Written comments must be received by January 27, 2003.

ADDRESSES: Comments may be submitted by mail or electronically. Commenters must send an original and two copies of their comments referencing docket number III-02-OEI-01 to: Marie Holman (3EI00), U.S. EPA Region III, Office of Environmental Innovation, 1650 Arch Street, Philadelphia, PA 19103-2029 or holman.marie@epa.gov. Further detailed instructions are provided in the Electronic Comment Submission section of the SUPPLEMENTARY INFORMATION section below.

FOR FURTHER INFORMATION CONTACT: For general information about the management of solid waste under RCRA, contact the RCRA/Superfund/EPCRA/UST Hotline at (800) 424-9346 (toll free) or TDD (800) 553-7672 (hearing impaired). For more detailed information on specific aspects of this rulemaking, contact Ms. Marie Holman by U.S. mail at U.S. EPA Region III (3EI00), 1650 Arch Street, Philadelphia, Pennsylvania, 19103-2029, by telephoning 215-814-5463, or by electronic mail at: holman.marie@epa.gov.

SUPPLEMENTARY INFORMATION:

I. General Information

A. How Does This Proposed Rule Relate to the Direct Final Pilot-Specific Rule for Electronic Materials in the EPA Region III Mid-Atlantic States; Hazardous Waste Management System; Modification of the Hazardous Waste Program; Cathode Ray Tubes?

EPA is publishing this as a proposed rule if adverse comments are filed to the direct final rule.

In the “Rules and Regulations” section of the Federal Register, we are promulgating a direct final rule which will be effective February 24, 2003 without further notice unless we receive adverse comment by January 27, 2003. If EPA receives adverse comment, we will publish a timely withdrawal in the Federal Register informing the public that the rule will not take effect.

We will address all public comments in a subsequent final rule based on this proposed rule. We will not institute a second comment period on this action. Any parties interested in commenting must do so at this time.

B. How Can I Get Copies of Related Information?

1. Docket

EPA has established an official public docket for this action under Docket ID No. III-02-OEI-01. The official public docket consists of the documents specifically referenced in this action, any public comments received, and other information related to this action. Although a part of the official docket, the public docket does not include Confidential Business Information (CBI) or other information whose disclosure is restricted by statute. The official public docket is the collection of materials that is available for public viewing at the EPA Region III Library, 1650 Arch Street, Philadelphia, PA 19103. This Docket Facility is open from 9 a.m. to 4 p.m., Monday through Friday, excluding federal holidays. To review docket materials, it is recommended that you make an appointment by calling Marie Holman at 215-814-5463. You may copy a maximum of 100 pages from any file maintained at the docket at no charge. Additional copies cost $0.15 per page.

2. Access to Information

You may access this Federal Register document electronically through the EPA Internet under the “Federal Register” listings at http://www.epa.gov/fedrgstr/. You can also review some of the supporting documents for the national proposed rule (FR, June 12, 2002, Vol. 67, No. 113, P. 40508-40528) (which supports the regional rule), in electronic format on the Internet at URL: http:/www.epa.gov/epa/epaoswer/hazwaste/recycle/electron/crt.htm.

You may view public comments and the supporting materials for the issues and memoranda discussed below at U.S. EPA Region III Library, 1650 Arch Street, Philadelphia, PA 19103. The library is open from 9 a.m. to 4 p.m., Monday through Friday, excluding federal holidays. To review docket materials, it is recommended that the you make an appointment by calling Marie Holman at 215-814-5463.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in I.B.1.

For public commenters, it is important to note that EPA's policy is that public comments, whether submitted electronically or in paper, will be made available for public viewing in EPA's public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

C. How and to Whom Do I Submit Comments?

You may submit comments electronically or by mail. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in I.B.2 and I.D.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. E-mail. Comments may be sent by electronic mail (e-mail) to holman.marie@epa.gov, Attention Docket ID No. III-02-OEI-01. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

ii. Disk or CD ROM. You may submit comments on a disk or CD ROM that you mail to the mailing address identified above in I.B. These electronic submissions will be accepted in WordPerfect or ASCII file format. Avoid the use of special characters and any form of encryption.

2. By Mail. Send an original and two copies of you comments referencing docket number III-02-OEI-01 to Marie Holman, Office of Environmental Innovation (3EI00), U.S. EPA, 1650 Arch Street, Philadelphia, PA 19103-2029.

D. How Should I Submit CBI to the Agency?

Do not submit information that you consider to be CBI electronically through EPA's electronic public docket or by e-mail. This information needs to be submitted under separate cover. Send information (original and two copies of CBI) identified as CBI only to the following address: Marie Holman, Office of Environmental Innovation (3EI00), U.S. EPA, 1650 Arch Street, Philadelphia, PA 19103-2029, Attention Docket ID No. III-02-OEI-01. You may claim information that you submit to EPA as CBI by marking any part or all of that information as CBI. Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

List of Subjects in 40 CFR Part 261

Environmental protection, Hazardous waste, Recycling, Reporting and recordkeeping requirements, Waste treatment and disposal.

Dated: December 19, 2002.
Christine T. Whitman,
Administrator, United States Environmental Protection Agency.

[FR Doc. 02-32551 Filed 12-24-02; 8:45 am]

BILLING CODE 6560-50-P